DEPARTMENT OF TRANSPORTATION

Surface Transportation Board

[Docket No. FD 35826]

Geaux Geaux Railroad, LLC—Acquisition and Operation Exemption—Illinois Central Railroad Company

Geaux Geaux Railroad, LLC (GGRL), a noncarrier, has filed a verified notice of exemption under 49 CFR 1150.31 to acquire from Illinois Central Railroad Company (ICR) and to operate approximately 21.95 miles of rail line (the Line) between: (1) milepost 9.69 at or near Zee and milepost 0.00 at or near Slaughter, and (2) milepost 345.84 at or near Slaughter and milepost 358.10 at or near Maryland, in East Baton Rouge Parish, La. GGRL states it will also operate over ICR between mileposts 358.10 and 363.60 solely for purposes of interchanging traffic at ICR's Baton Rouge yard.¹

¹ GGRL states that it intends to contract with a rail operator to operate the Line and that the operator will seek Board authority or an exemption for such operation. GGRL further states that it will retain a residual common carrier obligation to operate the Line.

The transaction may be consummated on or after June 7, 2014 (30 days after the notice of exemption was filed).

GGRL certifies that its projected annual revenues as a result of this transaction will not exceed those that would qualify it as a Class III rail carrier and will not exceed $5 million.

If the verified notice contains false or misleading information, the exemption is void ab initio. Petitions to revoke the exemption under 49 U.S.C. 10502(d) may be filed at any time. The filing of a petition to revoke will not automatically stay the effectiveness of the exemption. Petitions to stay must be filed no later than May 30, 2014 (at least seven days before the exemption becomes effective).

An original and 10 copies of all pleadings, referring to Docket No. FD 35826, must be filed with the Surface Transportation Board, 395 E Street SW., Washington, DC 20423-0001. In addition, a copy of each pleading must be served on Beatriz Beltranena, One Federal Highway, Suite 400, Boca Raton, FL 33432, and Thomas F. McFarland, 208 South LaSalle St., Suite 1890, Chicago, IL 60604.

Board decisions and notices are available on our Web site at “WWW.STB.DOT.GOV”.

Decided: May 19, 2014.
By the Board,
Rachel D. Campbell,
Director, Office of Proceedings.
Raina S. White,
Clearance Clerk.

[FR Doc. 2014-11984 Filed 5-22-14; 8:45 am]

BILLING CODE 4915-01-P